DEPARTMENT OF ENERGY

Office of Arms Control and Nonproliferation; Proposed Subsequent Arrangement

AGENCY: Department of Energy.

ACTION: Subsequent arrangement.

SUMMARY: This notice is being issued under the authority of Section 131 of the Atomic Energy Act of 1954, as amended (42 U.S.C. 2160). The Department is providing notice of a proposed “subsequent arrangement” under the Agreement for Cooperation in the Peaceful Uses of Nuclear Energy between the United States of America and the Republic of South Africa.

This subsequent arrangement concerns the cropping and transfer of 49 U.S.-origin spent fuel elements consisting of 5700.1 grams of uranium, of which 4276.6 grams of the isotope U-235 is 90 percent enriched, from the Pelindaba Safari Reactor storage facility to the Thabana Pipe Storage facility for long-term storage. The transfer, cropping and storage of the 49 fuel elements will be done under IAEA supervision and will take no longer than 2 months to complete. The purpose of the transfer is to alleviate the shortage of storage space at the Pelindaba Safari Reactor facility.

In accordance with Section 131 of the Atomic Energy Act of 1954, as amended, we have determined that this subsequent arrangement will not be inimical to the common defense and security.

This subsequent arrangement will take effect no sooner than fifteen days after the date of publication of this notice.

For the Department of Energy.
Trisha Dedik,
Director, International Policy and Analysis Division for Arms Control and Nonproliferation, Office of Defense Nuclear Nonproliferation.

[FR Doc. 00-6918 Filed 3-20-00; 8:45 am]

BILLING CODE 6450-01-P